DEPARTMENT OF TRANSPORTATION

Coast Guard

33 CFR Part 117

[CGD01-01-212]

Drawbridge Operation Regulations: Hackensack River, NJ

AGENCY: Coast Guard, DOT.

ACTION: Notice of temporary deviation from regulations.

SUMMARY: The Commander, First Coast Guard District, has issued a temporary deviation from the drawbridge operation regulations for the Witt-Penn (Route 7) Bridge, mile 3.1, across the Hackensack River at Jersey City, New Jersey. This temporary deviation will allow the bridge to remain in the closed position from 9 a.m. on December 4, 2001 through 6 a.m. on December 7, 2001. This temporary deviation is necessary to facilitate maintenance repairs at the bridge.

DATES: This deviation is effective from December 4, 2001 through December 7, 2001.

FOR FURTHER INFORMATION CONTACT: Joseph Schmied, Project Officer, First Coast Guard District, at (212) 668-7195.

SUPPLEMENTARY INFORMATION: The Witt-Penn (Route 7) Bridge has a vertical clearance in the closed position of 35 feet at mean high water and 40 feet at mean low water. The existing regulations require the draw to open on signal at all times.

The bridge owner, New Jersey Department of Transportation, has requested a temporary deviation from the drawbridge operating regulations to facilitate scheduled maintenance, the replacement of the bridge power and communications cable at the bridge. The nature of the required maintenance repairs will require the bridge to be closed to navigation during the implementation of this work.

This deviation to the operating regulations will allow the bridge to remain in the closed position from 9 a.m. on December 4, 2001 through 6 a.m. on December 7, 2001.

This deviation from the operating regulations is authorized under 33 CFR 117.35, and will be performed with all due speed in order to return the bridge to normal operation as soon as possible.

Dated: November 26, 2001.
G.N. Naccara,
Rear Admiral, U.S. Coast Guard, Commander, First Coast Guard District.

[FR Doc. 01-30020 Filed 12-3-01; 8:45 am]

BILLING CODE 4910-15-P